CIVIL RIGHTS COLD CASE RECORDS REVIEW BOARD

[Agency Docket Number: CRCCRRB-2025-0013-N]

Notice of Formal Determination on Records Release

AGENCY: Civil Rights Cold Case Records Review Board.

ACTION: Notice.

SUMMARY: The Civil Rights Cold Case Records Review Board received 857 pages of records from the National Archives and Records Administration (NARA), the Department of Justice, and the Federal Bureau of Investigation (FBI) related to two civil rights cold case incidents to which the Review Board assigned the unique identifiers 2024-003-041 and 2024-003-042. NARA did not propose any postponements of disclosure. The Department of Justice and the FBI proposed 1,422 postponements of disclosure and later withdrew 97 of those postponements. On April 23, 2025, the Review Board approved 489 postponements and portions of 28 additional postponements, and determined that 648 pages in full and 209 pages in part should be publicly disclosed in the Civil Rights Cold Case Records Collection. By issuing this notice, the Review Board complies with section 7(c)(4) of the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Postponement identifier | Review board decision
2024-003-041 | 2024-DOJ-03-0479 | Reject.
2024-003-041 | 2024-DOJ-03-0480 through 2024-DOJ-03-0489 | Approve.
2024-003-041 | 2024-DOJ-03-0490 | Reject.
2024-003-041 | 2024-DOJ-03-0491 | Withdrawn by agency.
2024-003-041 | 2024-DOJ-03-0492 | Approve.
2024-003-041 | 2024-DOJ-03-0493 | Approve with changes.
2024-003-041 | 2024-DOJ-03-0494 through 2024-DOJ-03-0500 | Approve.
2024-003-041 | 2024-DOJ-03-0501 | Reject.
2024-003-041 | 2024-DOJ-03-0502 | Approve.
2024-003-041 | 2024-DOJ-03-0503 | Reject.
2024-003-041 | 2024-DOJ-03-0504 through 2024-DOJ-03-0506 | Approve.
2024-003-041 | 2024-DOJ-03-0507 | Reject.
2024-003-041 | 2024-DOJ-03-0508 | Approve.
2024-003-041 | 2024-DOJ-03-0509 | Reject.
2024-003-041 | 2024-DOJ-03-0510 | Approve.
2024-003-041 | 2024-DOJ-03-0511 | Reject.
2024-003-041 | 2024-DOJ-03-0512 through 2024-DOJ-03-0516 | Approve.
2024-003-041 | 2024-DOJ-03-0517 | Reject.
2024-003-041 | 2024-DOJ-03-0518 through 2024-DOJ-03-0520 | Approve.
2024-003-041 | 2024-DOJ-03-0521 through 2024-DOJ-03-0527 | Reject.
2024-003-041 | 2024-DOJ-03-0528 and 2024-DOJ-03-0529 | Approve.
2024-003-041 | 2024-DOJ-03-0530 | Reject.
2024-003-041 | 2024-DOJ-03-0531 and 2024-DOJ-03-0532 | Approve.
2024-003-041 | 2024-DOJ-03-0533 and 2024-DOJ-03-0534 | Withdrawn by agency.
2024-003-041 | 2024-DOJ-03-0535 through 2024-DOJ-03-0537 | Approve.
2024-003-041 | 2024-DOJ-03-0538 through 2024-DOJ-03-0540 | Reject.
2024-003-041 | 2024-DOJ-03-0541 and 2024-DOJ-03-0542 | Approve.
2024-003-041 | 2024-DOJ-03-0543 and 2024-DOJ-03-0544 | Approve with changes.
2024-003-041 | 2024-DOJ-03-0545 through 2024-DOJ-03-0548 | Approve.
2024-003-041 | 2024-DOJ-03-0549 and 2024-DOJ-03-0550 | Withdrawn by agency.
2024-003-041 | 2024-DOJ-03-0551 | Reject.
2024-003-041 | 2024-DOJ-03-0552 through 2024-DOJ-03-0561 | Approve.
2024-003-041 | 2024-DOJ-03-0562 | Reject.
2024-003-041 | 2024-DOJ-03-0563 and 2024-DOJ-03-0564 | Approve.
2024-003-041 | 2024-DOJ-03-0565 | Reject.
2024-003-041 | 2024-DOJ-03-0566 through 2024-DOJ-03-0568 | Approve.
2024-003-041 | 2024-DOJ-03-0569 | Reject.
2024-003-041 | 2024-DOJ-03-0570 | Approve.
2024-003-041 | 2024-DOJ-03-0571 through 2024-DOJ-03-0575 | Reject.
2024-003-041 | 2024-DOJ-03-0576 and 2024-DOJ-03-0577 | Withdrawn by agency.
2024-003-041 | 2024-DOJ-03-0578 | Reject.
2024-003-041 | 2024-DOJ-03-0579 and 2024-DOJ-03-0580 | Withdrawn by agency.
2024-003-041 | 2024-DOJ-03-0581 through 2024-DOJ-03-0586 | Reject.
2024-003-041 | 2024-DOJ-03-0587 and 2024-DOJ-03-0588 | Withdrawn by agency.
2024-003-041 | 2024-DOJ-03-0589 through 2024-DOJ-03-0593 | Reject.
2024-003-041 | 2024-DOJ-03-0594 through 2024-DOJ-03-0599 | Withdrawn by agency.
2024-003-041 | 2024-DOJ-03-0600 and 2024-DOJ-03-0602 | Reject.
2024-003-041 | 2024-DOJ-03-0603 and 2024-DOJ-03-0604 | Withdrawn by agency.
2024-003-041 | 2024-DOJ-03-0605 through 2024-DOJ-03-0608 | Reject.
2024-003-041 | 2024-DOJ-03-0609 | Approve.
2024-003-041 | 2024-DOJ-03-0610 | Reject.
2024-003-041 | 2024-DOJ-03-0611 | Approve.
2024-003-041 | 2024-DOJ-03-0612 | Reject.
2024-003-041 | 2024-DOJ-03-0613 | Approve.
2024-003-041 | 2024-DOJ-03-0614 | Reject.
2024-003-041 | 2024-DOJ-03-0615 | Approve.
2024-003-041 | 2024-DOJ-03-0616 | Reject.
2024-003-041 | 2024-DOJ-03-0617 | Approve.
2024-003-041 | 2024-DOJ-03-0618 | Reject.
2024-003-041 | 2024-DOJ-03-0619 | Approve.
2024-003-041 | 2024-DOJ-03-0620 and 2024-DOJ-03-0621 | Reject.
2024-003-041 | 2024-DOJ-03-0622 | Approve.
2024-003-041 | 2024-DOJ-03-0623 through 2024-DOJ-03-0626 | Reject.
2024-003-041 | 2024-DOJ-03-0627 through 2024-DOJ-03-0635 | Approve.
2024-003-041 | 2024-DOJ-03-0636 | Reject.
2024-003-041 | 2024-DOJ-03-0637 | Approve.
2024-003-041 | 2024-DOJ-03-0638 and 2024-DOJ-03-0639 | Reject.
2024-003-041 | 2024-DOJ-03-0640 | Approve.
2024-003-041 | 2024-DOJ-03-0641 | Reject.
2024-003-041 | 2024-DOJ-03-0642 | Approve.
2024-003-041 | 2024-DOJ-03-0643 through 2024-DOJ-03-0652 | Reject.
2024-003-041 | 2024-DOJ-03-0653 through 2024-DOJ-03-0655 | Approve.
2024-003-041 | 2024-DOJ-03-0656 through 2024-DOJ-03-0664 | Reject.
2024-003-041 | 2024-DOJ-03-0665 | Approve.
2024-003-041 | 2024-DOJ-03-0666 through 2024-DOJ-03-0669 | Reject.
2024-003-041 | 2024-DOJ-03-0670 | Approve.
2024-003-041 | 2024-DOJ-03-0671 and 2024-DOJ-03-0672 | Reject.
2024-003-041 | 2024-DOJ-03-0673 | Approve.
2024-003-041 | 2024-DOJ-03-0674 | Reject.
2024-003-041 | 2024-DOJ-03-0675 | Approve.
2024-003-041 | 2024-DOJ-03-0676 and 2024-DOJ-03-0677 | Reject.
2024-003-041 | 2024-DOJ-03-0678 | Approve.
2024-003-041 | 2024-DOJ-03-0679 through 2024-DOJ-03-0682 | Reject.
2024-003-041 | 2024-DOJ-03-0683 | Approve.
2024-003-041 | 2024-DOJ-03-0684 through 2024-DOJ-03-0693 | Reject.
2024-003-041 | 2024-DOJ-03-0694 | Approve.
2024-003-041 | 2024-DOJ-03-0695 through 2024-DOJ-03-0697 | Reject.
2024-003-041 | 2024-DOJ-03-0698 | Approve.
2024-003-041 | 2024-DOJ-03-0699 through 2024-DOJ-03-0705 | Reject.
2024-003-041 | 2024-DOJ-03-0706 and 2024-DOJ-03-0707 | Approve.
2024-003-041 | 2024-DOJ-03-0708 through 2024-DOJ-03-0711 | Reject.
2024-003-041 | 2024-DOJ-03-0712 | Withdrawn by agency.
2024-003-041 | 2024-DOJ-03-0713 | Approve.
2024-003-041 | 2024-DOJ-03-0714 | Reject.
2024-003-041 | 2024-DOJ-03-0715 through 2024-DOJ-03-0717 | Approve.
2024-003-041 | 2024-DOJ-03-0718 | Withdrawn by agency.
2024-003-041 | 2024-DOJ-03-0719 | Reject.
2024-003-041 | 2024-DOJ-03-0720 and 2024-DOJ-03-0721 | Approve.
2024-003-041 | 2024-DOJ-03-0722 | Withdrawn by agency.
2024-003-041 | 2024-DOJ-03-0723 and 2024-DOJ-03-0724 | Approve.
2024-003-041 | 2024-DOJ-03-0725 through 2024-DOJ-03-0729 | Reject.
2024-003-041 | 2024-FBI-03-0787 | Reject.
2024-003-041 | 2024-FBI-03-0788 | Approve.
2024-003-041 | 2024-FBI-03-0789 through 2024-FBI-03-0793 | Reject.
2024-003-041 | 2024-FBI-03-0794 | Approve.
2024-003-041 | 2024-FBI-03-0795 through 2024-FBI-03-0810 | Reject.
2024-003-041 | 2024-FBI-03-0811 through 2024-FBI-03-0814 | Withdrawn by agency.
2024-003-041 | 2024-FBI-03-0815 through 2024-FBI-03-0826 | Reject.
2024-003-041 | 2024-FBI-03-0827 | Approve.
2024-003-041 | 2024-FBI-03-0828 through 2024-FBI-03-0852 | Reject.
2024-003-041 | 2024-FBI-03-0853 through 2024-FBI-03-0856 | Withdrawn by agency.
2024-003-041 | 2024-FBI-03-0857 | Reject.
2024-003-041 | 2024-FBI-03-0858 | Withdrawn by agency.
2024-003-041 | 2024-FBI-03-0859 | Reject.
2024-003-041 | 2024-FBI-03-0860 through 2024-FBI-03-0862 | Withdrawn by agency.
2024-003-041 | 2024-FBI-03-0863 through 2024-FBI-03-0880 | Reject.
2024-003-041 | 2024-FBI-03-0881 through 2024-FBI-03-0883 | Approve.
2024-003-041 | 2024-FBI-03-0884 and 2024-FBI-03-0885 | Reject.
2024-003-041 | 2024-FBI-03-0886 | Approve.
2024-003-041 | 2024-FBI-03-0887 through 2024-FBI-03-0891 | Reject.
2024-003-041 | 2024-FBI-03-0892 | Approve.
2024-003-041 | 2024-FBI-03-0893 through 2024-FBI-03-0904 | Reject.
2024-003-041 | 2024-FBI-03-0905 through 2024-FBI-03-0907 | Withdrawn by agency.
2024-003-041 | 2024-FBI-03-0908 through 2024-FBI-03-0922 | Reject.
2024-003-041 | 2024-FBI-03-0923 | Approve.
2024-003-041 | 2024-FBI-03-0924 through 2024-FBI-03-0948 | Reject.
2024-003-041 | 2024-FBI-03-0949 through 2024-FBI-03-0951 | Withdrawn by agency.
2024-003-041 | 2024-FBI-03-0952 | Reject.
2024-003-041 | 2024-FBI-03-0953 | Withdrawn by agency.
2024-003-041 | 2024-FBI-03-0954 and 2024-FBI-03-0955 | Reject.
2024-003-041 | 2024-FBI-03-0956 | Withdrawn by agency.
2024-003-041 | 2024-FBI-03-0957 through 2024-FBI-03-0976 | Reject.
2024-003-041 | 2024-FBI-03-0977 | Approve.
2024-003-041 | 2024-FBI-03-0978 | Reject.
2024-003-041 | 2024-FBI-03-0979 | Approve.
2024-003-041 | 2024-FBI-03-0980 and 2024-FBI-03-0981 | Reject.
2024-003-041 | 2024-FBI-03-0982 | Approve.
2024-003-041 | 2024-FBI-03-0983 through 2024-FBI-03-0985 | Reject.
2024-003-041 | 2024-FBI-03-0986 | Approve.
2024-003-041 | 2024-FBI-03-0987 and 2024-FBI-03-0988 | Withdrawn by agency.
2024-003-041 | 2024-FBI-03-0989 | Approve.
2024-003-041 | 2024-FBI-03-0990 and 2024-FBI-03-0991 | Reject.
2024-003-041 | 2024-FBI-03-0992 | Approve.
2024-003-041 | 2024-FBI-03-0993 | Reject.
2024-003-041 | 2024-FBI-03-0994 | Approve.
2024-003-041 | 2024-FBI-03-0995 | Reject.
2024-003-041 | 2024-FBI-03-0996 | Approve.
2024-003-041 | 2024-FBI-03-0997 through 2024-FBI-03-0999 | Reject.
2024-003-041 | 2024-FBI-03-1000 | Approve.
2024-003-041 | 2024-FBI-03-1001 through 2024-FBI-03-1004 | Reject.
2024-003-041 | 2024-FBI-03-1005 | Approve.
2024-003-041 | 2024-FBI-03-1006 through 2024-FBI-03-1010 | Reject.
2024-003-041 | 2024-FBI-03-1011 | Withdrawn by agency.
2024-003-041 | 2024-FBI-03-1012 through 2024-FBI-03-1035 | Reject.
2024-003-041 | 2024-FBI-03-1036 | Approve.
2024-003-041 | 2024-FBI-03-1037 through 2024-FBI-03-1039 | Reject.
2024-003-041 | 2024-FBI-03-1040 and 2024-FBI-03-1041 | Approve.
2024-003-041 | 2024-FBI-03-1042 through 2024-FBI-03-1051 | Reject.
2024-003-041 | 2024-FBI-03-1052 | Approve.
2024-003-041 | 2024-FBI-03-1053 through 2024-FBI-03-1055 | Reject.
2024-003-041 | 2024-FBI-03-1056 and 2024-FBI-03-1057 | Approve.
2024-003-041 | 2024-FBI-03-1058 | Reject.
2024-003-041 | 2024-FBI-03-1059 | Withdrawn by agency.
2024-003-041 | 2024-FBI-03-1060 | Reject.
2024-003-041 | 2024-FBI-03-1061 | Withdrawn by agency.
2024-003-041 | 2024-FBI-03-1062 | Approve.
2024-003-041 | 2024-FBI-03-1063 | Reject.
2024-003-041 | 2024-FBI-03-1064 | Approve.
2024-003-041 | 2024-FBI-03-1065 | Reject.
2024-003-041 | 2024-FBI-03-1066 | Approve.
2024-003-041 | 2024-FBI-03-1067 | Reject.
2024-003-041 | 2024-FBI-03-1068 | Approve.
2024-003-041 | 2024-FBI-03-1069 through 2024-FBI-03-1071 | Reject.
2024-003-041 | 2024-FBI-03-1072 and 2024-FBI-03-1073 | Withdrawn by agency.
2024-003-041 | 2024-FBI-03-1074 through 2024-FBI-03-1079 | Reject.
2024-003-041 | 2024-FBI-03-1080 and 2024-FBI-03-1081 | Withdrawn by agency.
2024-003-041 | 2024-FBI-03-1082 through 2024-FBI-03-1085 | Reject.
2024-003-041 | 2024-FBI-03-1086 | Approve.
2024-003-041 | 2024-FBI-03-1087 | Reject.
2024-003-041 | 2024-FBI-03-1088 | Approve.
2024-003-041 | 2024-FBI-03-1089 | Reject.
2024-003-041 | 2024-FBI-03-1090 | Approve.
2024-003-041 | 2024-FBI-03-1091 | Reject.
2024-003-041 | 2024-FBI-03-1092 | Approve.
2024-003-041 | 2024-FBI-03-1093 through 2024-FBI-03-1108 | Reject.
2024-003-041 | 2024-FBI-03-1109 through 2024-FBI-03-1111 | Withdrawn by agency.
2024-003-041 | 2024-FBI-03-1112 through 2024-FBI-03-1118 | Reject.
2024-003-041 | 2024-FBI-03-1119 | Withdrawn by agency.
2024-003-041 | 2024-FBI-03-1120 and 2024-FBI-03-1121 | Reject.
2024-003-041 | 2024-FBI-03-1122 | Approve.
2024-003-041 | 2024-FBI-03-1123 through 2024-FBI-03-1126 | Reject.
2024-003-041 | 2024-FBI-03-1127 | Approve.
2024-003-041 | 2024-FBI-03-1128 and 2024-FBI-03-1129 | Reject.
2024-003-041 | 2024-FBI-03-1130 | Approve.
2024-003-041 | 2024-FBI-03-1131 | Reject.
2024-003-041 | 2024-FBI-03-1132 | Approve.
2024-003-041 | 2024-FBI-03-1133 and 2024-FBI-03-1134 | Reject.
2024-003-041 | 2024-FBI-03-1135 | Approve.
2024-003-041 | 2024-FBI-03-1136 through 2024-FBI-03-1139 | Reject.
2024-003-041 | 2024-FBI-03-1140 | Approve.
2024-003-041 | 2024-FBI-03-1141 through 2024-FBI-03-1150 | Reject.
2024-003-041 | 2024-FBI-03-1151 | Approve.
2024-003-041 | 2024-FBI-03-1152 through 2024-FBI-03-1154 | Reject.
2024-003-041 | 2024-FBI-03-1155 and 2024-FBI-03-1156 | Approve.
2024-003-041 | 2024-FBI-03-1157 and 2024-FBI-03-1158 | Reject.
2024-003-041 | 2024-FBI-03-1159 | Withdrawn by agency.
2024-003-041 | 2024-FBI-03-1160 through 2024-FBI-03-1164 | Reject.
2024-003-041 | 2024-FBI-03-1165 and 2024-FBI-03-1166 | Withdrawn by agency.
2024-003-041 | 2024-FBI-03-1167 through 2024-FBI-03-1170 | Reject.
2024-003-041 | 2024-FBI-03-1171 | Approve.
2024-003-041 | 2024-FBI-03-1172 | Reject.
2024-003-041 | 2024-FBI-03-1173 | Approve.
2024-003-041 | 2024-FBI-03-1174 | Reject.
2024-003-041 | 2024-FBI-03-1175 | Approve.
2024-003-041 | 2024-FBI-03-1176 | Reject.
2024-003-041 | 2024-FBI-03-1177 | Approve.
2024-003-041 | 2024-FBI-03-1178 and 2024-FBI-03-1179 | Reject.
2024-003-041 | 2024-FBI-03-1180 | Withdrawn by agency.
2024-003-041 | 2024-FBI-03-1181 | Approve.
2024-003-041 | 2024-FBI-03-1182 | Reject.
2024-003-041 | 2024-FBI-03-1183 | Approve.
2024-003-041 | 2024-FBI-03-1184 | Reject.
2024-003-041 | 2024-FBI-03-1185 | Approve.
2024-003-041 | 2024-FBI-03-1186 | Reject.
2024-003-041 | 2024-FBI-03-1187 | Approve.
2024-003-041 | 2024-FBI-03-1188 | Reject.
2024-003-041 | 2024-FBI-03-1189 | Approve.
2024-003-041 | 2024-FBI-03-1190 | Reject.
2024-003-041 | 2024-FBI-03-1191 | Approve.
2024-003-041 | 2024-FBI-03-1192 through 2024-FBI-03-1195 | Reject.
2024-003-041 | 2024-FBI-03-1196 | Approve.
2024-003-041 | 2024-FBI-03-1197 through 2024-FBI-03-1200 | Reject.
2024-003-041 | 2024-FBI-03-1201 through 2024-FBI-03-1207 | Approve.
2024-003-041 | 2024-FBI-03-1208 | Reject.
2024-003-041 | 2024-FBI-03-1209 and 2024-FBI-03-1210 | Approve.
2024-003-041 | 2024-FBI-03-1211 | Reject.
2024-003-041 | 2024-FBI-03-1212 and 2024-FBI-03-1213 | Approve.
2024-003-041 | 2024-FBI-03-1214 and 2024-FBI-03-1215 | Reject.
2024-003-041 | 2024-FBI-03-1216 | Approve.
2024-003-041 | 2024-FBI-03-1217 | Reject.
2024-003-041 | 2024-FBI-03-1218 | Approve.
2024-003-041 | 2024-FBI-03-1219 and 2024-FBI-03-1220 | Reject.
2024-003-041 | 2024-FBI-03-1221 | Approve.
2024-003-041 | 2024-FBI-03-1222 through 2024-FBI-03-1224 | Reject.
2024-003-041 | 2024-FBI-03-1225 | Approve.
2024-003-041 | 2024-FBI-03-1226 through 2024-FBI-03-1230 | Reject.
2024-003-041 | 2024-FBI-03-1231 and 2024-FBI-03-1232 | Withdrawn by agency.
2024-003-041 | 2024-FBI-03-1233 through 2024-FBI-03-1236 | Reject.
2024-003-041 | 2024-FBI-03-1237 and 2024-FBI-03-1238 | Withdrawn by agency.
2024-003-041 | 2024-FBI-03-1239 through 2024-FBI-03-1242 | Reject.
2024-003-041 | 2024-FBI-03-1243 and 2024-FBI-03-1244 | Withdrawn by agency.
2024-003-041 | 2024-FBI-03-1245 | Approve.
2024-003-041 | 2024-FBI-03-1246 and 2024-FBI-03-1247 | Withdrawn by agency.
2024-003-041 | 2024-FBI-03-1248 through 2024-FBI-03-1250 | Reject.
2024-003-041 | 2024-FBI-03-1251 and 2024-FBI-03-1252 | Withdrawn by agency.
2024-003-041 | 2024-FBI-03-1253 | Approve.
2024-003-041 | 2024-FBI-03-1254 | Reject.
2024-003-041 | 2024-FBI-03-1255 | Withdrawn by agency.
2024-003-041 | 2024-FBI-03-1256 through 2024-FBI-03-1261 | Reject.
2024-003-041 | 2024-FBI-03-1262 | Approve.
2024-003-041 | 2024-FBI-03-1263 | Reject.
2024-003-041 | 2024-FBI-03-1264 | Approve.
2024-003-041 | 2024-FBI-03-1265 | Reject.
2024-003-041 | 2024-FBI-03-1266 | Approve.
2024-003-041 | 2024-FBI-03-1267 | Reject.
2024-003-041 | 2024-FBI-03-1268 | Approve.
2024-003-041 | 2024-FBI-03-1269 | Reject.
2024-003-041 | 2024-FBI-03-1270 | Approve.
2024-003-041 | 2024-FBI-03-1271 | Reject.
2024-003-041 | 2024-FBI-03-1272 | Approve.
2024-003-041 | 2024-FBI-03-1273 and 2024-FBI-03-1274 | Reject.
2024-003-041 | 2024-FBI-03-1275 | Approve.
2024-003-041 | 2024-FBI-03-1276 through 2024-FBI-03-1278 | Reject.
2024-003-041 | 2024-FBI-03-1279 through 2024-FBI-03-1287 | Approve.
2024-003-041 | 2024-FBI-03-1288 through 2024-FBI-03-1290 | Reject.
2024-003-041 | 2024-FBI-03-1291 through 2024-FBI-03-1293 | Approve.
2024-003-041 | 2024-FBI-03-1294 and 2024-FBI-03-1295 | Approve with changes.
2024-003-041 | 2024-FBI-03-1296 through 2024-FBI-03-1309 | Approve.
2024-003-041 | 2024-FBI-03-1310 through 2024-FBI-03-1312 | Reject.
2024-003-041 | 2024-FBI-03-1313 | Approve.
2024-003-041 | 2024-FBI-03-1314 | Reject.
2024-003-041 | 2024-FBI-03-1315 | Approve.
2024-003-041 | 2024-FBI-03-1316 | Reject.
2024-003-041 | 2024-FBI-03-1317 | Approve.
2024-003-041 | 2024-FBI-03-1318 | Reject.
2024-003-041 | 2024-FBI-03-1319 | Approve.
2024-003-041 | 2024-FBI-03-1320 | Reject.
2024-003-041 | 2024-FBI-03-1321 | Approve.
2024-003-041 | 2024-FBI-03-1322 | Reject.
2024-003-041 | 2024-FBI-03-1323 | Approve.
2024-003-041 | 2024-FBI-03-1324 | Reject.
2024-003-041 | 2024-FBI-03-1325 | Approve.
2024-003-041 | 2024-FBI-03-1326 | Reject.
2024-003-041 | 2024-FBI-03-1327 | Approve.
2024-003-041 | 2024-FBI-03-1328 | Reject.
2024-003-041 | 2024-FBI-03-1329 | Approve.
2024-003-041 | 2024-FBI-03-1330 and 2024-FBI-03-1331 | Reject.
2024-003-041 | 2024-FBI-03-1332 | Approve.
2024-003-041 | 2024-FBI-03-1333 through 2024-FBI-03-1337 | Reject.
2024-003-041 | 2024-FBI-03-1338 and 2024-FBI-03-1339 | Withdrawn by agency.
2024-003-041 | 2024-FBI-03-1340 | Reject.
2024-003-041 | 2024-FBI-03-1341 and 2024-FBI-03-1342 | Withdrawn by agency.
2024-003-041 | 2024-FBI-03-1343 through 2024-FBI-03-1348 | Reject.
2024-003-041 | 2024-FBI-03-1349 and 2024-FBI-03-1350 | Withdrawn by agency.
2024-003-041 | 2024-FBI-03-1351 through 2024-FBI-03-1355 | Reject.
2024-003-041 | 2024-FBI-03-1356 and 2024-FBI-03-1357 | Withdrawn by agency.
2024-003-041 | 2024-FBI-03-1358 | Approve.
2024-003-041 | 2024-FBI-03-1359 | Reject.
2024-003-041 | 2024-FBI-03-1360 | Withdrawn by agency.
2024-003-041 | 2024-FBI-03-1361 through 2024-FBI-03-1363 | Reject.
2024-003-041 | 2024-FBI-03-1364 and 2024-FBI-03-1365 | Withdrawn by agency.
2024-003-041 | 2024-FBI-03-1366 through 2024-FBI-03-1369 | Reject.
2024-003-041 | 2024-FBI-03-1370 | Approve.
2024-003-041 | 2024-FBI-03-1371 | Reject.
2024-003-041 | 2024-FBI-03-1372 | Approve.
2024-003-041 | 2024-FBI-03-1373 | Reject.
2024-003-041 | 2024-FBI-03-1374 | Approve.
2024-003-041 | 2024-FBI-03-1375 | Reject.
2024-003-041 | 2024-FBI-03-1376 | Approve.
2024-003-041 | 2024-FBI-03-1377 | Reject.
2024-003-041 | 2024-FBI-03-1378 | Approve.
2024-003-041 | 2024-FBI-03-1379 | Reject.
2024-003-041 | 2024-FBI-03-1380 | Approve.
2024-003-041 | 2024-FBI-03-1381 and 2024-FBI-03-1382 | Reject.
2024-003-041 | 2024-FBI-03-1383 | Approve.
2024-003-041 | 2024-FBI-03-1384 through 2024-FBI-03-1387 | Reject.
2024-003-041 | 2024-FBI-03-1388 | Approve.
2024-003-041 | 2024-FBI-03-1389 | Reject.
2024-003-041 | 2024-FBI-03-1390 | Approve.
2024-003-041 | 2024-FBI-03-1391 | Reject.
2024-003-041 | 2024-FBI-03-1392 | Approve.
2024-003-041 | 2024-FBI-03-1393 | Reject.
2024-003-041 | 2024-FBI-03-1394 | Approve.
2024-003-041 | 2024-FBI-03-1395 | Reject.
2024-003-041 | 2024-FBI-03-1396 | Approve.
2024-003-041 | 2024-FBI-03-1397 | Reject.
2024-003-041 | 2024-FBI-03-1398 | Approve.
2024-003-041 | 2024-FBI-03-1399 | Reject.
2024-003-041 | 2024-FBI-03-1400 | Approve.
2024-003-041 | 2024-FBI-03-1401 | Reject.
2024-003-041 | 2024-FBI-03-1402 | Approve.
2024-003-041 | 2024-FBI-03-1403 | Reject.
2024-003-041 | 2024-FBI-03-1404 | Approve.
2024-003-041 | 2024-FBI-03-1405 and 2024-FBI-03-1406 | Reject.
2024-003-041 | 2024-FBI-03-1407 | Approve.
2024-003-041 | 2024-FBI-03-1408 | Reject.
2024-003-041 | 2024-FBI-03-1409 | Approve.
2024-003-041 | 2024-FBI-03-1410 | Reject.
2024-003-041 | 2024-FBI-03-1411 | Approve.
2024-003-041 | 2024-FBI-03-1412 through 2024-FBI-03-1414 | Reject.
2024-003-041 | 2024-FBI-03-1415 through 2024-FBI-03-1420 | Approve.
2024-003-041 | 2024-FBI-03-1421 | Reject.
2024-003-041 | 2024-FBI-03-1422 | Approve.
2024-003-041 | 2024-FBI-03-1423 through 2024-FBI-03-1425 | Reject.
2024-003-041 | 2024-FBI-03-1426 and 2024-FBI-03-1427 | Approve.
2024-003-041 | 2024-FBI-03-1428 through 2024-FBI-03-1430 | Reject.
2024-003-041 | 2024-FBI-03-1431 and 2024-FBI-03-1432 | Approve.
2024-003-041 | 2024-FBI-03-1433 and 2024-FBI-03-1434 | Approve with changes.
2024-003-041 | 2024-FBI-03-1435 through 2024-FBI-03-1438 | Approve.
2024-003-041 | 2024-FBI-03-1439 through 2024-FBI-03-1441 | Withdrawn by agency.
2024-003-041 | 2024-FBI-03-1442 through 2024-FBI-03-1445 | Approve.
2024-003-041 | 2024-FBI-03-1446 | Approve with changes.
2024-003-041 | 2024-FBI-03-1447 through 2024-FBI-03-1451 | Approve.
2024-003-041 | 2024-FBI-03-1452 | Reject.
2024-003-041 | 2024-FBI-03-1453 and 2024-FBI-03-1454 | Approve.
2024-003-041 | 2024-FBI-03-1455 | Reject.
2024-003-041 | 2024-FBI-03-1456 through 2024-FBI-03-1459 | Approve.
2024-003-041 | 2024-FBI-03-1460 | Reject.
2024-003-041 | 2024-FBI-03-1461 | Approve.
2024-003-041 | 2024-FBI-03-1462 through 2024-FBI-03-1464 | Reject.
2024-003-041 | 2024-FBI-03-1465 and 2024-FBI-03-1466 | Approve.
2024-003-041 | 2024-FBI-03-1467 and 2024-FBI-03-1468 | Approve with changes.
2024-003-041 | 2024-FBI-03-1469 through 2024-FBI-03-1472 | Approve.
2024-003-041 | 2024-FBI-03-1473 through 2024-FBI-03-1475 | Withdrawn by agency.
2024-003-041 | 2024-FBI-03-1476 through 2024-FBI-03-1479 | Approve.
2024-003-041 | 2024-FBI-03-1480 | Approve with changes.
2024-003-041 | 2024-FBI-03-1481 through 2024-FBI-03-1485 | Approve.
2024-003-041 | 2024-FBI-03-1486 | Reject.
2024-003-041 | 2024-FBI-03-1487 and 2024-FBI-03-1488 | Approve.
2024-003-041 | 2024-FBI-03-1489 | Reject.
2024-003-041 | 2024-FBI-03-1490 through 2024-FBI-03-1493 | Approve.
2024-003-041 | 2024-FBI-03-1494 | Reject.
2024-003-041 | 2024-FBI-03-1495 | Approve.
2024-003-041 | 2024-FBI-03-1496 through 2024-FBI-03-1498 | Reject.
2024-003-041 | 2024-FBI-03-1499 and 2024-FBI-03-1500 | Approve.
2024-003-041 | 2024-FBI-03-1501 and 2024-FBI-03-1502 | Approve with changes.
2024-003-041 | 2024-FBI-03-1503 through 2024-FBI-03-1506 | Approve.
2024-003-041 | 2024-FBI-03-1507 through 2024-FBI-03-1509 | Withdrawn by agency.
2024-003-041 | 2024-FBI-03-1510 through 2024-FBI-03-1519 | Approve.
2024-003-041 | 2024-FBI-03-1520 | Reject.
2024-003-041 | 2024-FBI-03-1521 and 2024-FBI-03-1522 | Approve.
2024-003-041 | 2024-FBI-03-1523 | Reject.
2024-003-041 | 2024-FBI-03-1524 through 2024-FBI-03-1527 | Approve.
2024-003-041 | 2024-FBI-03-1528 | Reject.
2024-003-041 | 2024-FBI-03-1529 and 2024-FBI-03-1530 | Approve.
2024-003-041 | 2024-FBI-03-1531 | Reject.
2024-003-041 | 2024-FBI-03-1532 | Approve.
2024-003-041 | 2024-FBI-03-1533 through 2024-FBI-03-1537 | Reject.
2024-003-041 | 2024-FBI-03-1538 and 2024-FBI-03-1539 | Approve.
2024-003-041 | 2024-FBI-03-1540 | Reject.
2024-003-041 | 2024-FBI-03-1541 and 2024-FBI-03-1542 | Approve.
2024-003-041 | 2024-FBI-03-1543 and 2024-FBI-03-1544 | Withdrawn by agency.
2024-003-041 | 2024-FBI-03-1545 through 2024-FBI-03-1547 | Approve.
2024-003-041 | 2024-FBI-03-1548 through 2024-FBI-03-1550 | Reject.
2024-003-041 | 2024-FBI-03-1551 and 2024-FBI-03-1552 | Approve.
2024-003-041 | 2024-FBI-03-1553 and 2024-FBI-03-1554 | Approve with changes.
2024-003-041 | 2024-FBI-03-1555 through 2024-FBI-03-1558 | Approve.
2024-003-041 | 2024-FBI-03-1559 through 2024-FBI-03-1561 | Withdrawn by agency.
2024-003-041 | 2024-FBI-03-1562 through 2024-FBI-03-1565 | Approve.
2024-003-041 | 2024-FBI-03-1566 | Approve with changes.
2024-003-041 | 2024-FBI-03-1567 through 2024-FBI-03-1571 | Approve.
2024-003-041 | 2024-FBI-03-1572 | Reject.
2024-003-041 | 2024-FBI-03-1573 and 2024-FBI-03-1574 | Approve.
2024-003-041 | 2024-FBI-03-1575 | Reject.
2024-003-041 | 2024-FBI-03-1576 through 2024-FBI-03-1579 | Approve.
2024-003-041 | 2024-FBI-03-1580 | Reject.
2024-003-041 | 2024-FBI-03-1581 | Approve.
2024-003-041 | 2024-FBI-03-1582 | Reject.
2024-003-041 | 2024-FBI-03-1583 through 2024-FBI-03-1586 | Approve.
2024-003-041 | 2024-FBI-03-1587 | Reject.
2024-003-041 | 2024-FBI-03-1588 through 2024-FBI-03-1591 | Approve.
2024-003-041 | 2024-FBI-03-1592 | Reject.
2024-003-041 | 2024-FBI-03-1593 | Approve.
2024-003-041 | 2024-FBI-03-1594 through 2024-FBI-03-1619 | Reject.
2024-003-041 | 2024-FBI-03-1620 | Approve with changes.
2024-003-041 | 2024-FBI-03-1621 | Approve.
2024-003-041 | 2024-FBI-03-1622 | Reject.
2024-003-041 | 2024-FBI-03-1623 | Approve with changes.
2024-003-041 | 2024-FBI-03-1624 and 2024-FBI-03-1625 | Approve.
2024-003-041 | 2024-FBI-03-1626 through 2024-FBI-03-1640 | Reject.
2024-003-041 | 2024-FBI-03-1641 and 2024-FBI-03-1642 | Withdrawn by agency.
2024-003-041 | 2024-FBI-03-1643 through 2024-FBI-03-1654 | Reject.
2024-003-041 | 2024-FBI-03-1655 and 2024-FBI-03-1656 | Approve.
2024-003-041 | 2024-FBI-03-1657 and 2024-FBI-03-1658 | Reject.
2024-003-041 | 2024-FBI-03-1659 and 2024-FBI-03-1660 | Approve.
2024-003-041 | 2024-FBI-03-1661 | Approve with changes.
2024-003-041 | 2024-FBI-03-1662 and 2024-FBI-03-1663 | Approve.
2024-003-041 | 2024-FBI-03-1664 through 2024-FBI-03-1670 | Reject.
2024-003-042 | 2024-DOJ-03-0001 | Reject.
2024-003-042 | 2024-DOJ-03-0002 and 2024-DOJ-03-0003 | Approve.
2024-003-042 | 2024-DOJ-03-0004 | Reject.
2024-003-042 | 2024-DOJ-03-0005 | Approve.
2024-003-042 | 2024-DOJ-03-0006 | Reject.
2024-003-042 | 2024-DOJ-03-0007 and 2024-DOJ-03-0008 | Approve.
2024-003-042 | 2024-DOJ-03-0009 | Reject.
2024-003-042 | 2024-DOJ-03-0010 | Approve.
2024-003-042 | 2024-DOJ-03-0011 | Reject.
2024-003-042 | 2024-DOJ-03-0012 and 2024-DOJ-03-0013 | Approve.
2024-003-042 | 2024-DOJ-03-0014 | Reject.
2024-003-042 | 2024-DOJ-03-0015 through 2024-DOJ-03-0026 | Approve.
2024-003-042 | 2024-DOJ-03-0027 through 2024-DOJ-03-0030 | Reject.
2024-003-042 | 2024-DOJ-03-0031 and 2024-DOJ-03-0032 | Approve.
2024-003-042 | 2024-DOJ-03-0033 and 2024-DOJ-03-0034 | Reject.
2024-003-042 | 2024-DOJ-03-0035 | Approve.
2024-003-042 | 2024-DOJ-03-0036 | Reject.
2024-003-042 | 2024-DOJ-03-0037 | Approve.
2024-003-042 | 2024-DOJ-03-0038 | Reject.
2024-003-042 | 2024-DOJ-03-0039 and 2024-DOJ-03-0040 | Approve.
2024-003-042 | 2024-DOJ-03-0041 and 2024-DOJ-03-0042 | Reject.
2024-003-042 | 2024-DOJ-03-0043 through 2024-DOJ-03-0045 | Approve with changes.
2024-003-042 | 2024-DOJ-03-0046 through 2024-DOJ-03-0050 | Approve.
2024-003-042 | 2024-DOJ-03-0051 | Reject.
2024-003-042 | 2024-DOJ-03-0052 | Approve.
2024-003-042 | 2024-DOJ-03-0053 | Reject.
2024-003-042 | 2024-DOJ-03-0054 and 2024-DOJ-03-0055 | Approve
2024-003-042 | 2024-DOJ-03-0056 and 2024-DOJ-03-0057 | Reject.
2024-003-042 | 2024-DOJ-03-0058 through 2024-DOJ-03-0060 | Approve with changes.
2024-003-042 | 2024-DOJ-03-0061 through 2024-DOJ-03-0065 | Approve.
2024-003-042 | 2024-DOJ-03-0066 | Reject.
2024-003-042 | 2024-DOJ-03-0067 and 2024-DOJ-03-0068 | Approve.
2024-003-042 | 2024-DOJ-03-0069 and 2024-DOJ-03-0070 | Reject.
2024-003-042 | 2024-DOJ-03-0071 through 2024-DOJ-03-0073 | Approve with changes.
2024-003-042 | 2024-DOJ-03-0074 through 2024-DOJ-03-0076 | Approve.
2024-003-042 | 2024-DOJ-03-0077 | Reject.
2024-003-042 | 2024-DOJ-03-0078 and 2024-DOJ-03-0079 | Approve.
2024-003-042 | 2024-DOJ-03-0080 | Reject.
2024-003-042 | 2024-DOJ-03-0081 | Approve.
2024-003-042 | 2024-DOJ-03-0082 | Reject.
2024-003-042 | 2024-FBI-03-0001 through 2024-FBI-03-0005 | Reject.
2024-003-042 | 2024-FBI-03-0006 | Approve.
2024-003-042 | 2024-FBI-03-0007 through 2024-FBI-03-0011 | Reject.
2024-003-042 | 2024-FBI-03-0012 | Approve.
2024-003-042 | 2024-FBI-03-0013 through 2024-FBI-03-0015 | Reject.
2024-003-042 | 2024-FBI-03-0016 | Approve.
2024-003-042 | 2024-FBI-03-0017 through 2024-FBI-03-0020 | Reject.
2024-003-042 | 2024-FBI-03-0021 | Approve.
2024-003-042 | 2024-FBI-03-0022 | Reject.
2024-003-042 | 2024-FBI-03-0023 | Approve.
2024-003-042 | 2024-FBI-03-0024 | Withdrawn by agency.
2024-003-042 | 2024-FBI-03-0025 and 2024-FBI-03-0026 | Approve.
2024-003-042 | 2024-FBI-03-0027 through 2024-FBI-03-0029 | Withdrawn by agency.
2024-003-042 | 2024-FBI-03-0030 through 2024-FBI-03-0032 | Approve.
2024-003-042 | 2024-FBI-03-0033 through 2024-FBI-03-0036 | Withdrawn by agency.
2024-003-042 | 2024-FBI-03-0037 through 2024-FBI-03-0039 | Approve.
2024-003-042 | 2024-FBI-03-0040 through 2024-FBI-03-0042 | Withdrawn by agency
2024-003-042 | 2024-FBI-03-0043 | Approve.
2024-003-042 | 2024-FBI-03-0044 and 2024-FBI-03-0045 | Withdrawn by agency.
2024-003-042 | 2024-FBI-03-0046 and 2024-FBI-03-0047 | Approve.
2024-003-042 | 2024-FBI-03-0048 and 2024-FBI-03-0049 | Withdrawn by agency.
2024-003-042 | 2024-FBI-03-0050 | Approve.
2024-003-042 | 2024-FBI-03-0051 through 2024-FBI-03-0057 | Withdrawn by agency.
2024-003-042 | 2024-FBI-03-0058 | Approve.
2024-003-042 | 2024-FBI-03-0059 | Withdrawn by agency.
2024-003-042 | 2024-FBI-03-0060 and 2024-FBI-03-0061 | Approve.
2024-003-042 | 2024-FBI-03-0062 through 2024-FBI-03-0064 | Withdrawn by agency.
2024-003-042 | 2024-FBI-03-0065 through 2024-FBI-03-0067 | Approve.
2024-003-042 | 2024-FBI-03-0068 through 2024-FBI-03-0071 | Withdrawn by agency.
2024-003-042 | 2024-FBI-03-0072 through 2024-FBI-03-0074 | Approve.
2024-003-042 | 2024-FBI-03-0075 through 2024-FBI-03-0077 | Withdrawn by agency.
2024-003-042 | 2024-FBI-03-0078 | Approve.
2024-003-042 | 2024-FBI-03-0079 and 2024-FBI-03-0080 | Withdrawn by agency.
2024-003-042 | 2024-FBI-03-0081 and 2024-FBI-03-0082 | Approve.
2024-003-042 | 2024-FBI-03-0083 and 2024-FBI-03-0084 | Withdrawn by agency.
2024-003-042 | 2024-FBI-03-0085 | Approve.
2024-003-042 | 2024-FBI-03-0086 through 2024-FBI-03-0092 | Withdrawn by agency.
2024-003-042 | 2024-FBI-03-0093 through 2024-FBI-03-0102 | Approve.
2024-003-042 | 2024-FBI-03-0103 through 2024-FBI-03-0113 | Reject.
2024-003-042 | 2024-FBI-03-0114 through 2024-FBI-03-0116 | Approve.
2024-003-042 | 2024-FBI-03-0117 through 2024-FBI-03-0121 | Reject.
2024-003-042 | 2024-FBI-03-0122 through 2024-FBI-03-0124 | Approve.
2024-003-042 | 2024-FBI-03-0125 through 2024-FBI-03-0129 | Reject.
2024-003-042 | 2024-FBI-03-0130 | Withdrawn by agency.
2024-003-042 | 2024-FBI-03-0131 | Reject.
2024-003-042 | 2024-FBI-03-0132 | Approve.
2024-003-042 | 2024-FBI-03-0133 and 2024-FBI-03-0134 | Reject.
2024-003-042 | 2024-FBI-03-0135 | Approve.
2024-003-042 | 2024-FBI-03-0136 | Reject.
2024-003-042 | 2024-FBI-03-0137 and 2024-FBI-03-0138 | Approve.
2024-003-042 | 2024-FBI-03-0139 | Reject.
2024-003-042 | 2024-FBI-03-0140 | Approve.
2024-003-042 | 2024-FBI-03-0141 | Reject.
2024-003-042 | 2024-FBI-03-0142 and 2024-FBI-03-0143 | Approve.
2024-003-042 | 2024-FBI-03-0144 | Reject.
2024-003-042 | 2024-FBI-03-0145 | Approve.
2024-003-042 | 2024-FBI-03-0146 through 2024-FBI-03-0150 | Reject.
2024-003-042 | 2024-FBI-03-0151 and 2024-FBI-03-0152 | Approve.
2024-003-042 | 2024-FBI-03-0153 | Reject.
2024-003-042 | 2024-FBI-03-0154 through 2024-FBI-03-0162 | Approve.
2024-003-042 | 2024-FBI-03-0163 | Reject.
2024-003-042 | 2024-FBI-03-0164 through 2024-FBI-03-0166 | Approve.
2024-003-042 | 2024-FBI-03-0167 and 2024-FBI-03-0168 | Reject.
2024-003-042 | 2024-FBI-03-0169 | Approve.
2024-003-042 | 2024-FBI-03-0170 | Withdrawn by agency.
2024-003-042 | 2024-FBI-03-0171 through 2024-FBI-03-0173 | Approve.
2024-003-042 | 2024-FBI-03-0174 through 2024-FBI-03-0177 | Withdrawn by agency.
2024-003-042 | 2024-FBI-03-0178 through 2024-FBI-03-0180 | Approve.
2024-003-042 | 2024-FBI-03-0181 through 2024-FBI-03-0183 | Withdrawn by agency.
2024-003-042 | 2024-FBI-03-0184 | Approve.
2024-003-042 | 2024-FBI-03-0185 and 2024-FBI-03-0186 | Withdrawn by agency.
2024-003-042 | 2024-FBI-03-0187 and 2024-FBI-03-0188 | Approve.
2024-003-042 | 2024-FBI-03-0189 and 2024-FBI-03-0190 | Withdrawn by agency.
2024-003-042 | 2024-FBI-03-0191 | Approve.
2024-003-042 | 2024-FBI-03-0192 through 2024-FBI-03-0199 | Withdrawn by agency.
2024-003-042 | 2024-FBI-03-0200 through 2024-FBI-03-0202 | Approve.
2024-003-042 | 2024-FBI-03-0203 and 2024-FBI-03-0204 | Withdrawn by agency.
2024-003-042 | 2024-FBI-03-0205 and 2024-FBI-03-0206 | Approve.

Authority: Pub. L. 115-426, 132 Stat. 5489 (44 U.S.C. 2107).

Dated: April 30, 2025.
Stephannie Oriabure,
Chief of Staff.

[FR Doc. 2025-07821 Filed 5-5-25; 8:45 am]

BILLING CODE 6820-SY-P